DEPARTMENT OF VETERANS AFFAIRS

[OMB Control No. 2900-0379]

Agency Information Collection Activity Under OMB Review: Time Record (Work-Study Program)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0379.”

FOR FURTHER INFORMATION CONTACT: VA PRA information: Maribel Aponte, 202-461-8900, vacopaperworkreduact@va.gov.

SUPPLEMENTARY INFORMATION:

Title: Time Record (Work Study Program), VA Form 22-8690.

OMB Control Number: 2900-0379, https://www.reginfo.gov/public/do/PRASearch.

Type of Review: Revision of a currently approved collection.

Abstract: The VA uses the information collected on VA Form 22-8690 to ensure that the amount of benefits payable to the student who is pursuing Work Study is correct. Without this information, VA would not have a basis upon which to make the Work Study payment.

An agency may not conduct or sponsor, and a person is not required to respond to a collection of information unless it displays a currently valid OMB control number. The Federal Register Notice with a 60-day comment period soliciting comments on this collection of information was published at 89 FR 48965, June 10, 2024.

Affected Public: Individuals and Households.

Estimated Annual Burden: 6,022 hours.

Estimated Average Burden Time per Respondent: 5 minutes.

Frequency of Response: Occasionally.

Estimated Number of Respondents: 72,271.

Authority: 44 U.S.C. 3501 et seq.

Maribel Aponte,
VA PRA Clearance Officer, Office of Enterprise and Integration, Data Governance Analytics, Department of Veterans Affairs.

[FR Doc. 2024-18693 Filed 8-20-24; 8:45 am]

BILLING CODE 8320-01-P